DEPARTMENT OF COMMERCE

National Oceanic and Atmospheric Administration

RIN 0648-XX005

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application from the Commercial Fisheries Research Foundation and Rhode Island Department of Environmental Management contains all of the required information and warrants further consideration. Regulations under the Magnuson-Stevens Fishery Conservation and Management Act require publication of this notice to provide interested parties the opportunity to comment on applications for proposed Exempted Fishing Permits.

DATES: Comments must be received on or before July 26, 2019.

ADDRESSES: You may submit written comments by any of the following methods:

• Email: NMFS.GAR.EFP@NOAA.gov. Include in the subject line “BSB Research Fleet EFP.”

• Mail: Michael Pentony, Regional Administrator, NMFS, Greater Atlantic Regional Fisheries Office, 55 Great Republic Drive, Gloucester, MA 01930. Mark the outside of the envelope “Comments on BSB Research Fleet EFP.”

FOR FURTHER INFORMATION CONTACT: Laura Hansen, Fishery Management Specialist, 978-281-9225.

SUPPLEMENTARY INFORMATION: The Commercial Fisheries Research Foundation (CFRF) and Rhode Island Department of Environmental Management (RI DEM) submitted a complete application for an Exempted Fishing Permit (EFP) on May 22, 2019, to collect fishery-dependent information on black sea bass from August 1, 2019 through July 31, 2020. The EFP would authorize nine commercial fishing vessels and one party/charter vessel to collect and retain black sea bass for onboard sampling. This EFP would exempt the participating vessels from the following Federal regulations:

1. Recreational fishery closure periods specified at 50 CFR 648.146;

2. Commercial and party/charter minimum size limits for black sea bass specified at § 648.147(a) and (b).

The proposed research would collect data on black sea bass to better characterize catch and discard data for potential use in stock assessments. The research fleet consists of vessels fishing with trawls, lobster pots, gillnets, and hook and line. All gear deployments will be consistent with routine fishing practices.

Each vessel will be randomly selected to conduct sampling events during three trips per month in the black sea bass stock area. Up to 50 black sea bass would be temporarily held onboard to record their length and sex during each sampling event. Vessels would need to obtain the appropriate state exemptions to all applicable state regulations.

If approved, CFRF and RI DEM may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 5, 2019.
Jennifer M. Wallace,
Acting Director, Office of Sustainable Fisheries, National Marine Fisheries Service.

[FR Doc. 2019-14727 Filed 7-10-19; 8:45 am]

BILLING CODE 3510-22-P